DEPARTMENT OF ENERGY

Federal Energy Regulatory Commission

[Project No. 12646-001]

City of Broken Bow, OK; Notice Soliciting Scoping Comments

April 26, 2007.

Take notice that the following hydroelectric application has been filed with the Commission and is available for public inspection.

a. Type of Application: Original Major License.

b. Project No.: P-12646-001.

c. Date filed: July 6, 2006.

d. Applicant: City of Broken Bow.

e. Name of Project: Pine Creek Lake Dam Hydropower Project.

f. Location: On the Little River in McCurtain County, Oklahoma. The project would be located at the United States Army Corps of Engineers' (Corps) Pine Creek Lake Dam and would occupy several acres of land administered by the Corps.

g. Filed Pursuant to: Federal Power Act 16 U.S.C. 791 (a)-825(r).

h. Applicant Contact: Olen Hill, City Manager, City of Broken Bow, Oklahoma; 210 North Broadway; Broken Bow, Oklahoma 74728; (405) 584-2282.

i. FERC Contact: Allyson Conner, (202) 502-6082 or allyson.conner@ferc.gov.

j. Deadline for filing scoping comments: May 24, 2007.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link.

k. This application is not ready for environmental analysis at this time.

l. The proposed Pine Creek Lake Dam Hydropower project would be located at the Corps' Pine Creek Lake Dam and Reservoir, and would consist of the following facilities: (1) A diversion structure connecting to the existing outlet conduit; (2) a penstock connecting the diversion structure to the powerhouse; (3) a 112-foot-wide by 73-foot-long powerhouse containing two turbine-generator units, having a totaled installed capacity of 6.4 megawatts; (4) a tailrace returning flows to the Little River; (5) a one-mile-long, 14.4-kilovolt transmission line or a 6.5-mile-long, 13.8 kilovolt transmission line connecting to an existing distribution line; and (6) appurtenant facilities. The Applicant estimates that the average annual generation from the Project would be 16,200 megawatt-hours and that the Project would have an installed generating capacity of 6.4 megawatts (MW). All generated power would be sold to a local utility connected to the grid.

m. A copy of the application is available for review at the Commission in the Public Reference Room or may be viewed on the Commission's Web site at http://www.ferc.gov using the “eLibrary” link. Enter the docket number excluding the last three digits in the docket number field to address the document. For assistance, contact FERC Online Support at FERCOnlineSupport@ferc.gov or toll-free at 1-866-208-3676, or for TTY, (202) 502-8659. A copy is available for inspection and reproduction at the address in Item H above.

n. You may also register online at http://www.ferc.gov.esubscribenow.htm to be notified via e-mail of new filings and issuances related to this or other pending projects. For assistance, contact FERC Online Support.

o. Scoping Process

The Commission staff intends to prepare a single Environmental Assessment (EA) for the Pine Creek Lake Dam Hydroelectric Project in accordance with the National Environmental Policy Act. The EA will consider both site-specific and cumulative environmental impacts and reasonable alternatives to the proposed action.

Commission staff does not propose to conduct any on-site scoping meetings at this time. Instead, we are soliciting comments, recommendations, and information, on the Scoping Document (SD) issued on April 20, 2007.

Copies of the SD outlining the subject areas to be addressed in the EA were distributed to the parties on the Commission's mailing list and the applicant's service list. Copies of the SD may be viewed on the web at http://www.ferc.gov using the “eLibrary” link. Enter the docket number excluding the last three digits in the docket number field to access the document. For assistance, call 1-866-208-3676 or for TTY, (202) 502-8659.

Kimberly D. Bose,
Secretary.

[FR Doc. E7-8409 Filed 5-2-07; 8:45 am]

BILLING CODE 6717-01-P